DEPARTMENT OF EDUCATION

National Institute on Disability and Rehabilitation Research—Disability and Rehabilitation Research Projects and Centers Program—Rehabilitation Engineering Research Centers (RERCs)—Technologies for Successful Aging With Disability

AGENCY: Office of Special Education and Rehabilitative Services, Department of Education.

ACTION: Notice of final priority for an RERC.

SUMMARY: The Assistant Secretary for Special Education and Rehabilitative Services announces a priority for an RERC for Technologies for Successful Aging With Disability under the Disability and Rehabilitation Research Projects and Centers Program administered by the National Institute on Disability and Rehabilitation Research (NIDRR). The Assistant Secretary may use this priority for competitions in fiscal year (FY) 2008 and later years. We take this action to focus research attention on areas of national need. We intend this priority to improve rehabilitation services and outcomes for individuals with disabilities.

DATES: Effective Date: This priority is effective August 14, 2008.

FOR FURTHER INFORMATION CONTACT: Donna Nangle, U.S. Department of Education, 400 Maryland Avenue, SW., Room 6029, Potomac Center Plaza (PCP), Washington, DC 20202-2700. Telephone: (202) 245-7462 or by e-mail: donna.nangle@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION:

Rehabilitation Engineering Research Centers Program

The purpose of the RERC program is to improve the effectiveness of services authorized under the Rehabilitation Act of 1973, as amended, by conducting advanced engineering research and development on innovative technologies that are designed to solve particular rehabilitation problems or remove environmental barriers. RERCs also demonstrate and evaluate such technologies, facilitate service delivery system changes, stimulate the production and distribution of new technologies and equipment in the private sector, and provide training opportunities.

General Requirements of RERCs

RERCs carry out research or demonstration activities in support of the Rehabilitation Act of 1973, as amended, by—

• Developing and disseminating innovative methods of applying advanced technology, scientific achievement, and psychological and social knowledge to: (a) Solve rehabilitation problems and remove environmental barriers; and (b) study and evaluate new or emerging technologies, products, or environments and their effectiveness and benefits; or

• Demonstrating and disseminating: (a) Innovative models for the delivery of cost-effective rehabilitation technology services to rural and urban areas; and (b) other scientific research to assist in meeting the employment and independent living needs of individuals with severe disabilities; and

• Facilitating service delivery systems change through: (a) The development, evaluation, and dissemination of consumer-responsive and individual and family-centered innovative models for the delivery to both rural and urban areas of innovative cost-effective rehabilitation technology services; and (b) other scientific research to assist in meeting the employment and independence needs of individuals with severe disabilities.

Each RERC must be operated by, or in collaboration with, one or more institutions of higher education or one or more nonprofit organizations.

Each RERC must provide training opportunities, in conjunction with institutions of higher education and nonprofit organizations, to assist individuals, including individuals with disabilities, to become rehabilitation technology researchers and practitioners.

Each RERC must emphasize the principles of universal design in its product research and development. Universal design is “the design of products and environments to be usable by all people, to the greatest extent possible, without the need for adaptation or specialized design” (North Carolina State University, 1997. http://www.design.ncsu.edu/cud/about_ud/udprinciplestext.htm).

Additional information on the RERC program can be found at: http://www.ed.gov/rschstat/research/pubs/index.html.

We published a notice of proposed priorities (NPP) for NIDRR's Disability and Rehabilitation Research Projects and Centers Program in the Federal Register on April 22, 2008 (73 FR 21607). The NPP included background statements that described our rationale for the priorities proposed in that notice. In this notice of final priority (NFP), we are announcing the final priority for the RERC—Technologies for Successful Aging With Disability, one of the priorities proposed in the NPP. We published a separate notice of final priorities for the other priorities proposed in the NPP on July 7, 2008 (73 FR 38436).

There are differences between the proposed priority for the RERC for Technologies for Successful Aging With Disability and the final priority for the RERC for Technologies for Successful Aging With Disability as discussed in the following section.

Analysis of Comments and Changes

In response to our invitation in the NPP, five parties submitted comments on the proposed priority for the RERC. An analysis of the comments and of any changes in the priority since publication of the NPP follows.

Generally, we do not address technical and other minor changes, or suggested changes the law does not authorize us to make under the applicable statutory authority. In addition, we do not address general comments that raised concerns not directly related to the proposed priority.

Comment: Two commenters asked for clarification of NIDRR's intent with respect to the limits placed on the number of research and development projects that applicants can propose under this priority. Specifically, the commenters requested that we clarify what is intended by the language in paragraph (a) of the priority, which states that the RERC must conduct no more than four rigorous research and development projects that address the needs of individuals with disabilities and that use state-of-the-art methodologies. These commenters also asked whether applicants could propose projects that include only research activities, only development activities, or both research and development activities.

Discussion: The language in paragraph (a) of the priority referenced by the commenter restricts the total number of research and development projects to be conducted by the RERC under this priority to four or fewer. We intend for this limitation to help focus the resources of the RERC and thereby increase the feasibility of the RERC's proposed activities and the likelihood of the RERC achieving its planned outcomes. We intended the language in paragraph (a) of the priority to allow applicants to propose four or fewer rigorous research and development projects, each of which could include a combination of research and development activities, or only research or only development activities.

Changes: NIDRR has revised paragraph (a) of the priority by adding the words “a total of” to clarify that applicants must propose no more than a total of four research and development projects. In addition, NIDRR has revised paragraph (a) of the priority to clarify that each research and development project proposed by the RERC may include a combination of research and development activities, or only research or only development activities.

Comment: Two commenters noted that this priority supports research and development activities that are designed to foster improvements in technologies, assistive technologies, technology-based products, environments, and built environments. These commenters requested clarification regarding the distinctions between these terms, and recommended that the terms be used consistently throughout the priority.

Discussion: There is no single definition of the term “technology,” but, as used in this priority, we intend for the term to refer to the practical application of science and knowledge generally. This broad definition of “technology” is intended to provide applicants under this priority with the flexibility to propose a wide range of approaches to applying, developing, modifying, testing, and evaluating technologies that promote successful aging with a disability.

We believe the terms “technology” and “technologies” encompass assistive technologies, technology-based products, and built environments. In section 3 of the Assistive Technology Act of 1998 (AT Act the term assistive technology is defined as technology that is designed to be used in an assistive technology device or assistive technology service. The AT Act defines an assistive technology device as any item, piece of equipment, or product system, whether acquired commercially, modified, or customized, that is used to increase, maintain, or improve functional capabilities of individuals with disabilities. The AT Act defines an assistive technology service as any service that directly assists an individual with a disability in the selection, acquisition, or use of an assistive technology device.

The term “technology-based products” is intended to refer to products that utilize practical applications of science and knowledge. The distinction between technologies and technology-based products is illustrated with a specific example. A manual wheelchair is a technology-based product that utilizes specific technologies including hand-rim design and seating systems.

The term “built environments” refers to man-made physical spaces such as residences, workspaces, public buildings, and facilities. “Environment” is a more general term and for that reason we removed that term from the priority. As recommended by the commenter, we revised the priority to use terms consistently throughout the priority.

Changes: We have replaced the term “assistive technologies” with the term “technologies” and replaced the term “environments” with the term “built environments” for accuracy and consistency within the priority.

Comment: One commenter requested that we clarify the meaning of the phrase “utility for intended users,” as used in paragraph (b) of the priority.

Discussion: We believe that the meaning of this phrase is clear within the context of the priority. Intended users, for purposes of this priority, are middle-aged and older adults with disabilities. Technology, technology-based products, or built environments have utility for middle-aged and older adults with disabilities to the extent that they can be used to facilitate their participation in the community.

Changes: None.

Comment: Two commenters asked for clarification regarding the intent of the first and second sentences of paragraph (d) of the priority. These commenters noted that the phrase “transfer of RERC-developed technologies to the marketplace” in the first sentence has a different meaning than the reference in the second sentence to making these technologies “available to the public.” The commenters noted that transferring tangible products to the marketplace involves manufacturing, while technologies can conceptually be made available to the public via dissemination of written information.

Discussion: The intended outcome of activities to be carried out under paragraph (d) of the priority is the increased transfer of RERC-developed technologies to the marketplace. We did not intend to de-emphasize this outcome by referring to making technologies available to the public in the second sentence of paragraph (d). However, the priority's focus on transferring RERC-developed technologies to the marketplace does not preclude applicants from also actively disseminating their work through relevant publications.

Changes: In paragraph (d) of the priority, we have replaced the words “made available to the public” with the words “transferred to the marketplace.”

Note: This notice does not solicit applications. In any year in which we choose to use this priority, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

This NFP is in concert with President George W. Bush's New Freedom Initiative (NFI) and NIDRR's Final Long-Range Plan for FY 2005-2009 (Plan). The NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority—Technologies for Successful Aging With Disability

The Assistant Secretary for Special Education and Rehabilitative Services announces a priority for the establishment of a Rehabilitation Engineering Research Center (RERC) for Technologies for Successful Aging with Disability. Under this priority, the RERC must research, evaluate, and develop new technologies and approaches, or modify and apply existing technologies and approaches that address the challenges to community participation experienced by middle-aged and older adults with disabilities in home, work, or community settings.

Under this priority, the RERC must be designed to contribute to the following outcomes:

(a) Increased technical and scientific knowledge regarding the use of technologies for successful aging with disability. The RERC must contribute to this outcome by conducting no more than a total of four rigorous research and development projects that address the needs of individuals with disabilities and that use state-of-the-art methodologies. For purposes of this priority, a rigorous research and development project may include a combination of research and development activities, or may include only research or only development activities. These rigorous research and development projects must generate measurable results and improve policy, practice, or system capacity to use technology to meet the community participation needs of individuals who are aging with disabilities, or who are aging into disability.

(b) Improved technologies, technology-based products, and built environments for successful aging with disability. The RERC must contribute to this outcome by developing new, or modifying and applying existing technologies, technology-based products, and built environments, and testing and evaluating their utility for intended users.

(c) Increased impact of research in the area of technologies for successful aging with disability. The RERC must contribute to this outcome by providing technical assistance to public and private organizations, individuals with disabilities, and employers on policies, guidelines, and standards related to the use of technologies to facilitate successful aging with disability.

(d) Increased transfer of RERC-developed technologies to the marketplace. The RERC must contribute to this outcome by developing and implementing a technology transfer plan for ensuring that technologies developed by the RERC are transferred to the marketplace. The RERC must develop its technology transfer plan in the first year of the project period in consultation with the NIDRR-funded Disability and Rehabilitation Research Project, Center on Knowledge Translation for Technology Transfer.

In addition, the RERC must—

• Have the capability to design, build, and test prototype devices and assist in the transfer of successful solutions to relevant production and service delivery settings;

• Evaluate the efficacy and safety of its new products, instrumentation, or assistive technology devices;

• Provide as part of its proposal, and then implement, a plan that describes how it will include, as appropriate, individuals with disabilities or their representatives in all phases of its activities, including research, development, training, dissemination, and evaluation;

• Provide as part of its proposal, and then implement, in consultation with the NIDRR-funded National Center for the Dissemination of Disability Research (NCDDR), a plan to disseminate its research results to individuals with disabilities, their representatives, disability organizations, service providers, professional journals, manufacturers, and other interested parties;

• Conduct a state-of-the-science conference on its designated priority research area in the fourth year of the project period, and publish a comprehensive report on the final outcomes of the conference in the fifth year of the project period; and

• Coordinate research projects of mutual interest with relevant NIDRR-funded projects, as identified through consultation with the NIDRR project officer.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priority justify the costs.

Summary of Potential Costs and Benefits:

The benefits of the Disability and Rehabilitation Research Projects and Centers Program have been well established over the years in that similar projects have been completed successfully. This final priority will generate new knowledge and technologies through research, development, dissemination, utilization, and technical assistance projects.

Another benefit of this final priority is that the establishment of a new RERC will support the President's NFI and will improve the lives of individuals with disabilities. The new RERC will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

(Catalog of Federal Domestic Assistance Numbers 84.133E Rehabilitation Engineering Research Centers Program)

.

Program Authority: 29 U.S.C. 762(g), 764(a), and 764(b)(3).

Dated: July 10, 2008.
Tracy R. Justesen,
Assistant Secretary for Special Education and Rehabilitative Services.

[FR Doc. E8-16125 Filed 7-14-08; 8:45 am]

BILLING CODE 4000-01-P